DEPARTMENT OF EDUCATION

[CFDA Number 84.405A]

Teacher Quality Partnership Grants Program

AGENCY: Office of Innovation and Improvement, Department of Education.

ACTION: Notice inviting applications for new awards for fiscal year (FY) 2009; correction.

SUMMARY: On May 27, 2009, we published in the Federal Register (74 FR 25221) a notice inviting applications for new awards for FY 2009. This notice corrects an error in that notice.

Correction

In the Federal Register of May 27, 2009, in FR Doc. E9-12180, on page 25227, in the third column, under the heading Poverty Data, at the end of line six, insert the word “not” after the word “serves.”

FOR FURTHER INFORMATION CONTACT: Teacher Quality Partnership Grants Program, U.S. Department of Education, 400 Maryland Avenue, SW., room 4W320, Washington, DC 20202. Telephone: (202) 260-0563 or by e-mail: TQPartnership@ed.gov.

If you use a TDD, call the Federal Relay Service, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 1, 2009.
James H. Shelton, III,
Assistant Deputy Secretary for Innovation and Improvement.

[FR Doc. E9-13086 Filed 6-3-09; 8:45 am]

BILLING CODE 4000-01-P